DEPARTMENT OF ENERGY

Federal Energy Regulatory Commission

[Docket No. CP03-51-001]

Natural Gas Pipeline Company of America; Notice of Amendment to Certificate

October 13, 2004.

Take notice that on October 5, 2004, Natural Gas Pipeline Company of America (Natural), filed an abbreviated application under section 7 of the NGA, as amended, and sections 157.7 and 157.14 of the Commission's Regulations to amend the certificate authority that was previously granted in Docket No. CP03-51-000. By order issued July 29, 2003, Natural was authorized to drill six new injection/ withdrawal (I/W) wells and convert three observation wells to I/W wells at the Sayre Storage Field (Sayre) in Beckham County, Oklahoma.

Natural seeks amended certificate authority to convert a fourth observation well, in place of one of the original three observation wells authorized to be converted. Natural states that the well will be converted to I/W status, and the replaced well will continue to be used as an observation well. Natural believes this minor change in its existing certificate authority is in the public interest and urges prompt consideration of and action on this application, so that the necessary work can be completed as soon as possible.

Any questions regarding this application should be directed to Bruce H. Newsome, Vice President, Natural Gas Pipeline of America, 747 East 22nd Street, Lombard, Illinois 60148 at (630) 691-3526.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: October 29, 2004.

Magalie R. Salas,
Secretary.

[FR Doc. E4-2745 Filed 10-20-04; 8:45 am]

BILLING CODE 6717-01-P